SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 7, 2024.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: The Form 3513 had previously been used for physical and Economic Injury Disaster Loans (EIDL), including COVID loans. Going forward, this form will be used for determining fraud for non-COVID disaster loans, 7(a) and 504 loan programs.

As authorized by the Coronavirus Preparedness and Response Supplemental Appropriations Act, 2020, the Coronavirus Aid, Relief, and Economic Security Act (CARES Act), the Paycheck Protection Program and Health Care Enhancement Act, and the Economic Aid to Hard-Hit Small Businesses, Nonprofits, and Venues Act, the Small Business Administration (SBA) provided COVID-19 Economic Injury Disaster Loans to provide working capital for small businesses, private nonprofits, and small agricultural enterprises who suffered substantial economic injury as a result of the Coronavirus pandemic. SBA received more than 16 million loan applications during the pandemic and a small percentage of those applications may have been a result of identity theft. In an effort to ensure SBA is taking the appropriate action for any individuals who have indicated they have been the victim of identity theft, the individual will need to provide an affidavit to SBA indicating no involvement in the filing of the loan application, and that they did not receive or have knowledge of who received the loan funds. The information will be collected from those individuals (or their representative) who, without their knowledge or authorization, had an application submitted to SBA's Office of Capital Access (OCA) utilizing their personal information. OCA will review the information contained in the affidavit to determine whether there was identity theft involved, and if so, OCA will take the necessary steps to stop all billing statements, release any collateral filings, and to ensure that loan information will not be publicly reported in the name of the identity theft victim. In addition, this affidavit will be provided to the Office of Inspector General and other enforcement agencies in any legal action going forward.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0418.

Title: Declaration of Identity Theft.

Description of Respondents: Individuals that claim to be victims of identity theft and that their information was used to apply for SBA financial assistance.

SBA Form Number: 3,513.

Estimated Number of Respondents: 20,602.

Estimated Annual Responses: 20,602.

Estimated Annual Hour Burden: 5,150.5.

Curtis Rich,
Agency Clearance Officer.

[FR Doc. 2024-19884 Filed 9-4-24; 8:45 am]

BILLING CODE 8026-09-P